DEPARTMENT OF AGRICULTURE

Natural Resources Conservation Service

[Docket No. NRCS-2014-0003]

Notice of Meeting of the Agricultural Air Quality Task Force

AGENCY: Natural Resources Conservation Service, USDA.

ACTION: Notice of Meeting.

SUMMARY: The Department of Agriculture (USDA) Agricultural Air Quality Task Force (AAQTF) will meet to continue discussions on critical air quality issues in relation to agriculture. Special emphasis will be placed on obtaining a greater understanding about the relationship between agricultural production and air quality. The meeting is open to the public, and a draft agenda is included in this notice.

DATES: The AAQTF meeting will convene Wednesday, April 30, 2014, from 8:00 a.m. to 5:00 p.m. MDT, and Thursday, May 1, 2014, from 8:00 a.m. to 2:00 p.m. MDT. A public comment period will be held on May 1.

Individuals wishing to make oral presentations should contact Greg Johnson at (503) 273-2424, or email: greg.johnson@por.usda.gov no later than April 10, 2014, and bring 35 copies of any material they would like distributed to the meeting.

Written material intended for AAQTF member consideration prior to the meeting must be received by Dr. Greg Johnson, Designated Federal Official, USDA, NRCS, 1201 Lloyd Boulevard, Suite 1000, Portland, Oregon 97232 no later than April 24, 2014.

ADDRESSES: The meeting will be held at the Oxford Suites Boise, 1426 South Entertainment Avenue, Boise, Idaho 83709; telephone: (208) 322-8000.

FOR FURTHER INFORMATION CONTACT: Questions and comments should be directed to Dr. Greg Johnson, Designated Federal Official, USDA, NRCS, 1201 Lloyd Boulevard, Suite 1000, Portland, Oregon 97232; telephone: (503) 273-2424; fax: (503) 273-2401; email: greg.johnson@por.usda.gov.

SUPPLEMENTARY INFORMATION: Notice of this meeting is given under the Federal Advisory Committee Act, 5 U.S.C. App. 2. Additional information concerning AAQTF, including revisions to the meeting agenda that may occur after this Federal Register Notice is published, may be found at: www.nrcs.usda.gov/wps/portal/nrcs/detail/national/air/taskforce.

Draft Agenda

Meeting of the AAQTF

April 30-May 1, 2014

A. Welcome remarks and introductions

B. Review of AAQTF history and purpose

C. USDA Climate Change Program Office update

D. Update on agricultural air quality regulatory issues at EPA

E. AAQTF strategies and goals for 2013-2015

F. AAQTF subcommittee formation and meetings

G. Updates from USDA agencies (FS, NRCS, NIFA, and ARS)

H. Selected agricultural air quality research presentations

I. Public input (time will be reserved, most likely on the second day, to receive public comments. Individual presentations will be limited to 5 minutes)

The timing of events in the agenda is subject to change to accommodate changing schedules of expected speakers or extended discussions.

Procedural

This meeting is open to the public. At the discretion of the Chair, members of the public may provide oral presentations during the meeting. Persons wishing to make an oral presentation should notify Greg Johnson at (503) 273-2424 no later than April 10, 2014. Those wishing to distribute written materials at the meeting (in conjunction with spoken comments) must bring 35 copies of the materials with them. Written materials for distribution to AAQTF members prior to the meeting must be received by Dr. Johnson no later than April 24, 2014.

Information on Services for Individuals With Disabilities

For information on facilities or services for individuals with disabilities or to request special assistance at the meeting, please contact Greg Johnson. USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (Braille, large print, audio tape, etc.) should contact the USDA Target Center at (202) 720-2000 (voice and TDD).

Signed this 3rd day of April 2014, in Washington, DC.
Jason A. Weller,
Chief, Natural Resources Conservation Service.

[FR Doc. 2014-08229 Filed 4-11-14; 8:45 am]

BILLING CODE 3410-16-P